DEPARTMENT OF ENERGY

Federal Energy Regulatory Commission

Combined Notice of Filings #1

Take notice that the Commission received the following electric corporate filings:

Docket Numbers: EC16-75-000.

Applicants: Desert Sunlight 250, LLC, Desert Sunlight 300, LLC, Summit Solar Desert Sunlight, LLC.

Description: Joint Application for Authorization under FPA Section 203 of Desert Sunlight 250, LLC, et.al.

Filed Date: 2/18/16.

Accession Number: 20160218-5214.

Comments Due: 5 p.m. ET 3/10/16.

Take notice that the Commission received the following electric rate filings:

Docket Numbers: ER16-967-000.

Applicants: Midcontinent Independent System Operator, Inc., Entergy New Orleans, Inc.

Description: § 205(d) Rate Filing: 2016-02-18_ENO Pricing Zone Filing to be effective 9/1/2016.

Filed Date: 2/18/16.

Accession Number: 20160218-5163.

Comments Due: 5 p.m. ET 3/10/16.

Docket Numbers: ER16-968-000.

Applicants: Pacific Gas and Electric Company.

Description: § 205(d) Rate Filing: Silicon Valley Power Work Performance Agreement for Relay Testing to be effective 2/19/2016.

Filed Date: 2/18/16.

Accession Number: 20160218-5200.

Comments Due: 5 p.m. ET 3/10/16.

Docket Numbers: ER16-969-000.

Applicants: Commonwealth Edison Company, PJM Interconnection, L.L.C.

Description: § 205(d) Rate Filing: ComEd submits revisions to Attach. H-13—McHenry wholesale distribution charge to be effective 2/19/2016.

Filed Date: 2/19/16.

Accession Number: 20160219-5018.

Comments Due: 5 p.m. ET 3/11/16.

Docket Numbers: ER16-971-000.

Applicants: Public Service Company of New Mexico.

Description: Compliance filing: PNM/Navopache eTariff Compliance Filing—NITSA and NOA to be effective 1/1/2016.

Filed Date: 2/19/16.

Accession Number: 20160219-5047.

Comments Due: 5 p.m. ET 3/11/16.

Docket Numbers: ER16-972-000.

Applicants: Public Service Company of New Mexico.

Description: Compliance filing: PNM/Navopache eTariff Compliance Filing—PSA to be effective 11/1/2015.

Filed Date: 2/19/16.

Accession Number: 20160219-5048.

Comments Due: 5 p.m. ET 3/11/16.

Docket Numbers: ER16-973-000.

Applicants: Public Service Company of New Mexico.

Description: Tariff Cancellation: Notice of Cancellation of Records to be effective 11/1/2015.

Filed Date: 2/19/16.

Accession Number: 20160219-5049.

Comments Due: 5 p.m. ET 3/11/16.

Docket Numbers: ER16-974-000.

Applicants: Midcontinent Independent System Operator, Inc.

Description: § 205(d) Rate Filing: 2016-02-19_SA 2898 Ameren Illinois-Ford County Wind Farm GIA (J375) to be effective 2/20/2016.

Filed Date: 2/19/16.

Accession Number: 20160219-5079.

Comments Due: 5 p.m. ET 3/11/16.

Docket Numbers: ER16-975-000.

Applicants: New York Independent System Operator, Inc., Niagara Mohawk Power Corporation.

Description: Joint Notice of Termination of Small Generator Interconnection Service Agreement No. 1483 Among the New York Independent System Operator, Inc., Niagara Mohawk Power Corporation and Green Power Energy LLC.

Filed Date: 2/19/16.

Accession Number: 20160219-5081.

Comments Due: 5 p.m. ET 3/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2016.
Nathaniel J. Davis, Sr.,
Deputy Secretary.

[FR Doc. 2016-04141 Filed 2-25-16; 8:45 am]

BILLING CODE 6717-01-P